DEPARTMENT OF COMMERCE

Patent and Trademark Office

[Docket No. PTO-C-2023-0009]

Study of the Patent Pro Bono Programs; Request for Comments; Extension of the Comment Period

AGENCY: United States Patent and Trademark Office, U.S. Department of Commerce.

ACTION: Request for comments; extension of the comment period.

SUMMARY: The United States Patent and Trademark Office (USPTO) recently sought public comments on topics related to the study of the patent pro bono programs identified in the Unleashing American Innovators Act of 2022. This study builds on the work the USPTO has conducted for over a decade, and has scaled during the Biden Administration, to bring more people in America into the innovation ecosystem. The USPTO believes that broadening access to the intellectual property system will create more jobs, foster economic prosperity, and promote the development of solutions for societal challenges. In response to stakeholder feedback, the USPTO is extending the comment period until August 11, 2023, to give interested members of the public additional time to submit comments.

DATES: Comments must be received by August 11, 2023.

ADDRESSES: For reasons of Government efficiency, comments must be submitted through the Federal eRulemaking Portal at www.regulations.gov. To submit comments via the portal, enter docket number PTO-C-2023-0009 on the homepage and click “search.” The site will provide a search results page listing all documents associated with this docket. Find a reference to this request for comments and click on the “Comment” icon, complete the required fields, and enter or attach your comments. Attachments to electronic comments will be accepted in ADOBE® portable document format (PDF) or MICROSOFT WORD® format. Since comments will be made available for public inspection, information that the submitter does not desire to make public, such as an address or phone number, should not be included in the comments.

Visit the Federal eRulemaking Portal for additional instructions on providing comments via the portal. If electronic submission of comments is not feasible due to a lack of access to a computer and/or the internet, please contact the USPTO using the contact information below for special instructions regarding how to submit comments by mail or by hand delivery.

FOR FURTHER INFORMATION CONTACT: Will Covey, Deputy General Counsel for Enrollment and Discipline and Director of the Office of Enrollment and Discipline, at 571-272-4097.

SUPPLEMENTARY INFORMATION: On April 12, 2023, the USPTO sought input from the public on the patent pro bono programs to evaluate the programs and make recommendations and improvements that will strengthen their reach and impact. See Study of the Patent Pro Bono Programs; Notice of Public Listening Sessions and Request for Comments, 88 FR 22012. The notice requested public comments by July 11, 2023.

In view of the importance of this effort, and in response to stakeholder feedback, the USPTO is extending the period for public comments on the patent pro bono programs until August 11, 2023. As stated in the April 12, 2023, notice, the USPTO seeks feedback from a broad range of stakeholders, including, but not limited to, inventors, small businesses, entrepreneurs, patent attorneys, patent agents, law firms, nonprofit organizations, academic institutions, public interest groups, and the general public. The USPTO desires feedback from stakeholders so it can, as appropriate, evaluate the programs and make recommendations to Congress regarding possible administrative and legislative actions. All other information provided in the April 12, 2023, notice remains unchanged. Previously submitted comments do not need to be resubmitted.

Katherine K. Vidal,
Under Secretary of Commerce for Intellectual Property and Director of the United States Patent and Trademark Office.

[FR Doc. 2023-13869 Filed 6-28-23; 8:45 am]

BILLING CODE 3510-16-P